DEPARTMENT OF TRANSPORTATION

Federal Aviation Administration

[Summary Notice No. PE-2000-51]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 23, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraph (c), (e), and (g) of § 11.27 of part 11 of the Federal Aviation Regulations (14 CFR part 11).

Issued in Washington, D.C. on September 26, 2000.
Donald P. Byrne,
Assistant Chief Counsel for Regulations.

Dispositions of Petitions

Docket No.: 29213.

Petitioner: Elliott Aviation of Des Moines, Inc.

Section of the FAR Affected: 14 CFR 135.143(c)(2).

Description of Relief Sought/Disposition: To permit Elliott to operate certain aircraft under part 135 without a TSO-C112 (Mode S) transponder installed on those aircraft.

Grant, 09/12/00, Exemption No. 7347

Docket No.: 28361.

Petitioner: AirTran Airways, Inc.

Section of the FAR Affected: 14 CFR 91.203(a) and (b)

Description of Relief Sought/Disposition: To permit AirTran to operate temporarily its aircraft following incidental loss of mutilation of an aircraft's airworthiness or registration certificate.

Grant, 09/11/00, Exemption No. 7348

Docket No.: 29197.

Petitioner: Stallion 51 Corporation.

Section of the FAR Affected: 14 CFR 91.315.

Description of Relief Sought/Disposition: To permit Stallion 51 to provide initial and recurrent training, and training under contracts with the U.S. military in its two North American TF-51 airplanes certificated as limited category civil aircraft.

Grant, 09/08/00, Exemption No. 6811A

Docket No.: 30062.

Petitioner: Country Flying Education, Inc.

Section of the FAR Affected: 14 CFR 135.251, 135.255, 135.353, and appendixes I and J to part 121.

Description of Relief Sought/Disposition: To permit CFR to conduct local sightseeing flights as Necedah Airport, Necedah, Wisconsin, for the Necedah Airport Open House on October 1, 1000, for compensation or hire, without complying with certain anti-drug and alcohol misuse prevention requirements of part 135.

Grant, 09/14/00, Exemption No. 7350.

Docket No.: 30167.

Petitioner: Angel Flight of Georgia.

Section of the FAR Affected: 14 CFR 135.251, 135.255, 135.353, and appendixes I and J to part 121

Description of Relief Sought/Disposition: To permit Angel Flight to conduct local sighteening flights at Dekalb Peachtree Airport, Chamblee, Georgia for one-day Fly Around Town event in October 2000, for compensation of hire, without complying with certain anti-drug and alcohol misuse prevention requirements of part 135.

Grant, 09/14/00, Exemption No. 7349

Docket No.: 30164.

Petitioner: Whirl-Away Helicopters, Inc.

Section of the FAR Affected: 14 CFR 135.143(c)(2).

Description of Relief Sought/Disposition: To permit Whirl-Away to operate certain aircraft under part 135 without a TSO-C112 (Mode S) transponder installed in the aircraft.

Grant, 09/15/00, Exemption No. 7352

[FR Doc. 00-25079 Filed 9-28-00; 8:45 am]

BILLING CODE 4910-13-M